DEPARTMENT OF DEFENSE

Department of the Army; Corps of Engineers

Intent To Prepare a Draft Supplemental Environmental Impact Statement for the Lower Rio Grande Basin, Texas, Flood Control and Major Drainage, Raymondville Drain Project

AGENCY: Department of the Army, U.S. Army Corps of Engineers, DOD.

ACTION: Notice of intent.

SUMMARY: The Raymondville Drain Project is part of the Lower Rio Grande Basin Project which was authorized by section 401 of the Water Resources and Development Act of 1986 (Pub. L. 99-962). The proposed Draft Supplemental Environmental Impact Statement (DSEIS) will evaluate alternatives in the Raymondville Drain Project watershed to identify the most acceptable alternative to reduce and control flooding in Willacy and Hidalgo Counties, Texas. Alternatives are intended to provide flood protection and drainage to a watershed area of approximately 322 square miles including the City of Raymondville and surrounding rural and agricultural areas of Hildalgo and Willacy Counties. The local sponsor for the project is Hidalgo County Drainage District No. 1.

FOR FURTHER INFORMATION CONTACT: Questions about the proposed action and DSEIS can be answered by: Ms. Kristy Morten, Environmental Lead, P.O. Box 1229, Galveston, TX 77553-1229; fax: (409) 766-3064; e-mail: kristy.l.morten@usace.army.mil.

SUPPLEMENTARY INFORMATION: 1. Proposed Action. The DSEIS will be an integral part of a General Reevaluation Report (GRR) that will present the results of a new plan to provide flood control and agricultural drainage improvements to the City of Raymondville and Willacy and Hidalgo Counties, as authorized by the Water Resources Development Act of 1986 (WRDA 86). The Raymondville Drain is one of three elements of the authorized Lower Rio Grande Basin Project. The Phase 1 General Design Memorandum (GDM) and Programmatic EIS were completed in August 1982 and approved in the September 1982.

A Limited Reevaluation Report (LRR) completed in 1997 concluded that the Federal project for flood control and major drainage at Raymondville was still economically and environmentally feasible. However, Willacy County, the local sponsor, could not support the project because of financial reasons. Hildalgo and Willacy Counties have again expressed an interest in pursuing a flood control project under this authorization. Given the last LRR completion nearly 7 years ago, a GRR and SEIS will be completed by the Corps of Engineers in partnership with Hildalgo County Drainage District #1 as the Lead Sponsor to assure that the project recommended will be safe, functional, economically justified, and environmentally acceptable and that the requirements of the National Environmental Policy Act (NEPA) have been met.

2. Alternatives. The alternatives that will be evaluated in the GRR and SEIS include: (1) Non-structural measures that would include acquisition and removal, flood proofing, or raising of existing structures; (2) Channelization along the Raymondville Drain; (3) Earthen levees of various heights and lengths; (4) Combinations of the above measures; and (5) No action.

3. Scoping. The scoping process will involve Federal, State, and local agencies and other interested persons and organizations. A series of scoping meetings and workshops will be conducted in Hildalgo and Willacy Counties, Texas to discuss various issues associated with proposed flood protection and drainage measures. Initial Public Scoping Meetings will be held July 21, 2004 at the UTPA Center for Border Economic Study (IT2 Building) in Edinburg, TX from 7 pm-8:30 pm and July 22, 2004 at the Raymondville Public Library in Raymondville, TX from 7 pm-8:30 pm.

If you cannot attend the public meetings and have information or questions concerning the study, written comments will be accepted for 30 days following the meetings or until August 22, 2004.

4. Coordination. Further coordination with environmental agencies will be conducted under NEPA, the Fish and Wildlife Coordination Act, the Endangered Species Act, the Clean Water Act, the National Historic Preservation Act, the Magnuson-Stevens Fishery Conservation and Management Act (Essential Fish Habitat), Farmland Protection Policy Act and the Coastal Zone Management Act under the Texas Coastal Management Program.

5. DSEIS Preparation. It is estimated that the DEIS will be available to the public for review and comment in November 2007.

Carolyn E. Murphy,
Chief, Environmental Section.

[FR Doc. 04-16230 Filed 7-15-04; 8:45 am]

BILLING CODE 3710-52-M